DEPARTMENT OF JUSTICE

[OMB Number 1121-0356]

Agency Information Collection Activities; Proposed eCollection; eComments Requested; Reinstatement to a Previously Approved Collection: State and Local Justice Agencies Serving Tribal Lands (SLJASTL): Survey of State and Local Law Enforcement Agencies Serving Tribal Lands (SSLLEASTL)

AGENCY: Bureau of Justice Statistics, Department of Justice.

ACTION: 30-day notice.

SUMMARY: Department of Justice (DOJ), Criminal Division will be submitting the following information collection request to the Office of Management and Budget (OMB) for review and approval in accordance with the Paperwork Reduction Act of 1995. This proposed information collection was previously published in the Federal Register at 81 FR 94419, on December 23, 2016, allowing for a 60 day comment period.

DATES: Comments are encourages and will be accepted for an additional 30 day until April 7, 2017.

FOR FURTHER INFORMATION CONTACT: If you have additional comments especially on the estimated public burden or associated response time, suggestions, or need a copy of the proposed information collection instrument with instructions or additional information, please contact Suzanne Strong, Bureau of Justice Statistics, 810 Seventh St. NW., Washington, DC 20531 (email: Suzanne.M.Strong@usdoj.gov; telephone: 202-616-3666). Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Reinstatement, with change, to a previously approved collection (previous approval recalled to redesign the effort as a survey rather than a census).

(2) Title of the Form/Collection: Survey of State and Local Law Enforcement Agencies Serving Tribal Lands/State and Local Justice Agencies Serving Tribal Lands.

(3) Agency form number, if any, and the applicable component of the Department sponsoring the collection: Agency form number: No agency form number at this time. Sponsoring component: Department of Justice, Bureau of Justice Statistics.

(4) Affected public who will be asked or required to respond, as well as a brief abstract: Respondents will be general purpose state and local law enforcement agencies (LEAs) that are responsible for policing tribal lands in the sixteen Public Law 280 (PL-280) states (Alaska, Arizona, California, Florida, Idaho, Iowa, Minnesota, Montana, Nebraska, Nevada, North Dakota, Oregon, South Dakota, Utah, Washington, and Wisconsin). General purpose law enforcement agencies include state police departments, sheriff's offices, and local law enforcement agencies. The survey will also include village public safety coordinating officer (VPSO) non-profit coordinating agencies. Abstract: Among other responsibilities, the Bureau of Justice Statistics (BJS) is charged with collecting data regarding crimes occurring on tribal lands. The SLJASTL is the first effort by BJS to include state and local justice agencies responsible for policing and prosecuting crimes that occur on tribal lands in PL-280 states. Specifically, the SSLLEASTL will collect information that will help fill the gaps we have in our understanding of the nature of crime on tribal lands. There are two survey instruments: one for Alaska and one for the remaining fifteen PL-280 states. The data collection instruments are designed to capture administrative, operational and caseload data from respondents. Information requested includes the staffing and budgets of the state and local law enforcement agencies, the types of agreements state and local law enforcement agencies have with tribal governments, types of patrol services, traffic services, and detention services provided to tribal lands, information sharing between state and local law enforcement and tribal governments, training provided by state and local law enforcement to tribal law enforcement (including cross-deputization agreements), training received by state and local law enforcement agencies on tribal jurisdiction, tribal law and tribal culture, and the number and types of incidents policed by state and local law enforcement agencies. This survey is the first of its kind to describe the role that state and local law enforcement play in policing crime on tribal lands in PL-280 states.

(5) An estimate of the total number of respondents and the amount of time estimated for an average respondent to respond/reply: The survey will be sent to 1,741 respondents. BJS expects an 80% response rate, or 1,393 total respondents. It is estimated that each respondent will take 1 hour to complete the form. An additional 30 minutes burden is estimated for nonresponse follow-up, as well as outreach to respondents that provided problematic data. The total burden per respondent is 90 minutes.

(6) An estimate of the total public burden (in hours) associated with the collection: There are an estimated 2,090 total burden hours associated with this collection.

If additional information is required contact: Melody Braswell, Department Clearance Officer, United States Department of Justice, Justice Management Division, Policy and Planning Staff, Two Constitution Square, 145 N Street NE., Suite 3E.405B, Washington, DC 20530.

Dated: March 3, 2017.
Melody Braswell,
Department Clearance Officer, PRA, U.S. Department of Justice.

[FR Doc. 2017-04531 Filed 3-7-17; 8:45 am]

BILLING CODE 4410-18-P